SOCIAL SECURITY ADMINISTRATION

Agency Information Collection Activities: Comment Request

The Social Security Administration (SSA) publishes a list of information collection packages that will require clearance by the Office of Management and Budget (OMB) in compliance with Public Law (Pub. L.) 104-13, the Paperwork Reduction Act of 1995, effective October 1, 1995. The information collection package in this notice is for a revision to an OMB-approved information collection.

SSA is soliciting comments on the accuracy of the Agency's burden estimate; the need for the information; its practical utility; ways to enhance its quality, utility and clarity; and ways to minimize the burden on respondents, including the use of automated collection techniques or other forms of information technology. Submit written comments and recommendations on the information collection to the SSA Reports Clearance Officer. Mail, fax or e-mail the information to the address and fax number listed below:

(OMB): Office of Management and Budget, Attn: Desk Officer for SSA, Fax: 202-395-6974, E-mail address: OIRA_Submission@omb.eop.gov.

(SSA): Social Security Administration, DCBFM, Attn: Reports Clearance Officer, 1333 Annex Building, 6401 Security Blvd., Baltimore, MD 21235, Fax: 410-965-6400, E-mail address: OPLM.RCO@ssa.gov.

We are submitting the information collection below to OMB for clearance. Your comments on the information collection will be most useful if you send them to OMB and SSA within 30 days from the date of this publication. You can obtain a copy of the OMB clearance package by calling the SSA Reports Clearance Officer at 410-965-0454, or by writing to OPLM.RCO@ssa.gov.

Social Security Benefits Application (Internet, Retirement Survivor & Disability)—20 CFR 404.310-.311, 404.315-.322, 404.330-.333, 404.601-.603, 404.1501-.1512, Subpart D, Subpart G & Subpart P—0960-0618. Members of the public seeking Social Security benefits must first file an application for the desired type of payment. The Internet Social Security Benefits Application (ISBA) is an online system that allows members of the public to apply electronically for Retirement Insurance Benefits, Disability Insurance Benefits, and Spouse's Insurance Benefits. This information collection includes: (1) ISBA; (2) paper forms (Forms SSA-1, SSA-2, and SSA-16) for these various benefits; and (3) Modernized Claims System for these benefits, which allows SSA field office employees to enter information in an application system during interviews with applicants in a direct input process. For each part of this information collection, we ask applicants only those questions that are relevant to the specific type of benefit they are seeking. This information collection request (ICR) is for changes we are making to the ISBA application, including: (1) the ability for third parties to complete applications in ISBA and (2) redesign changes that will make the application less time-consuming. The respondents are applicants for Retirement, Disability, or Spouse's Insurance Benefits or their third-party representatives.

Type of Request: Revision to an OMB-approved information collection.

ISBA Burden Information:

Form type | Number of respondents | Frequency of response | Average burden per response (minutes) | Total burden (hours)
ISBA 3rd Party | 28,118 | 1 | 15 | 7,030
ISBA Applicant after 3rd Party Completion | 28,118 | 1 | 5 | 2,343
First Party ISBA | 541,851 | 1 | 15 | 135,463
Totals | 598,087 |  |  | 144,836

Paper Forms/Accompanying MCS Screens Burden Information:

Form SSA-1:

Collection method | Number of respondents | Frequency of response | Average burden per response (minutes) | Total burden (hours)
MCS | 172,200 | 1 | 11 | 31,750
MCS/Signature Proxy | 1,549,800 | 1 | 10 | 258,300
Paper | 21,000 | 1 | 11 | 3,850
Totals | 1,743,000 |  |  | 293,900

Form SSA-2:

Collection method | Number of respondents | Frequency of response | Average burden per response (minutes) | Total burden (hours)
MCS | 36,860 | 1 | 15 | 9,215
MCS/Signature Proxy | 331,740 | 1 | 14 | 77,406
Paper | 3,800 | 1 | 15 | 950
Totals | 372,400 |  |  | 87,571

Form SSA-16:

Collection method | Number of respondents | Frequency of response | Average burden per response (minutes) | Total burden (hours)
MCS | 218,657 | 1 | 20 | 72,886
MCS/Signature Proxy | 1,967,913 | 1 | 19 | 623,172
Paper | 24,161 | 1 | 20 | 8,054
Totals | 2,210,732 |  |  | 704,112

Dated: May 19, 2008.
Elizabeth A. Davidson,
Reports Clearance Officer, Social Security Administration.

[FR Doc. E8-11542 Filed 5-21-08; 8:45 am]

BILLING CODE 4191-02-P